DEPARTMENT OF ENERGY

Federal Energy Regulatory Commission

[Docket No. ER07-1050-000]

PJM Interconnection, L.L.C.; Notice of Technical Conference

September 10, 2007.

The Commission's August 17, 2007 order in the above-captioned proceeding ¹ directed that a technical conference be held to address certain tariff revisions proposed by PJM Interconnection, LLC (PJM), specifically, PJM's proposed revisions to section 5.6.6(d) of Attachment DD of the PJM open access transmission tariff and proposed capacity export charge.

¹ PJM Interconnection, LLC, 120 FERC ¶ 61,169 (2007).

Take notice that a technical conference will be held on Friday, September 28, 2007, at 9:30 a.m. (EST), in a room to be designated at the offices of the Federal Energy Regulatory Commission (FERC), 888 First Street, NE., Washington, DC 20426.

FERC conferences are accessible under section 508 of the Rehabilitation Act of 1973. For accessibility accommodations please send an e-mail to accessibility@ferc.gov or call toll free (866) 208-3372 (voice) or 202-502-8659 (TTY), or send a fax to 202-208-2106 with the required accommodations.

All interested parties and staff are permitted to attend. For further information please contact Kent Carter at (202) 502-8604 or e-mail kent.carter@ferc.gov.

Kimberly D. Bose,
Secretary.

[FR Doc. E7-18212 Filed 9-14-07; 8:45 am]

BILLING CODE 6717-01-P